FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning an information collection currently titled: Forms Related to Outside Counsel Services Contracting.

DATES: Comments must be submitted on or before January 20, 2004.

ADDRESSES: You may submit comments identified by the OMB control number, by any of the following methods:

• Agency Web Site: http://www.fdic.gov/regulations/laws/federal/ propose.html.

• E-mail: comments@fdic.gov. Include OMB control number in the subject line of the message.

• Mail: Leneta Gregorie, Counsel (Consumer and Compliance Unit), (202) 898-3719, Legal Division, Room 3062, Attention: Comments/Legal, Federal Deposit Insurance Corporation, 550 17th Street NW., Washington, DC 20429.

OMB desk officer for the FDIC: Joseph F. Lackey, Jr., Information and Regulatory Affairs, Office of Management and Budget, New Executive Office Building, Room 10236, Washington, DC 20503.

• Hand Delivery/Courier: Guard station at the rear of the 17th Street Building (located on F Street), on business days between 7 a.m. and 5 p.m.

Instructions: All submissions received must include the agency name and OMB control number for this notice. Comments will be posted without change to http://www.fdic.gov/regulations/laws/federal/propose.html, including any personal information provided.

FOR FURTHER INFORMATION CONTACT: Leneta G. Gregorie, at the address identified above.

SUPPLEMENTARY INFORMATION: Proposal to revise the following currently approved collection of information:

Title: Forms Related to Outside Counsel Services Contracting.

OMB Number: 3064-0122.

Current Form Numbers: 5000/24; 5000/25; 5000/26; 5000/27; 5000/28; 5000/29; 5000/31; 5000/32; 5000/33; 5000/34; 5000/35; 5000/36; 5200/01.

Proposed New Form Numbers: 5210/01; 5210/02; 5210/03; 5210/03A; 5210/04; 5210/04A; 5210/06; 5210/06(A); 5210/08; 5210/10; 5210/10(A); 5210/11; 5210/12; and 5210/12A.

Frequency of Response: As necessary.

Affected Public: Law firms, sole proprietors, experts, and other legal services support providers who wish to contract with or who already are under contract with the FDIC.

Estimated Number of Respondents: 4,378.

Estimated Time per Response: 2,095 responses—1 hour; 1,045 responses—.75 hour; 1,238 responses—.50 hour.

Estimated Total Annual Burden: 3,498 hours.

General Description of Collection: The information collection ensures that law firms, experts, and other legal service providers seeking to provide services to the FDIC meet the eligibility requirements established by Congress and facilitates the FDIC's monitoring of performance, progress and payments under the contracts.

Current Action: There are 13 forms, each of which supports the FDIC's Outside Counsel Program, currently approved under this information collection. These 13 forms have a total annual burden of 1,903 hours based on 2,783 responses, with the estimated response time for each form varying between .5 hour to 1.0 hour. The FDIC is proposing to (1) change the title of the collection to “Forms Relating to FDIC Outside Counsel Services, Legal Support Services and Expert Services Programs' to reflect the broadened focus of the information collection, and (2) add an additional 14 forms to the collection, several of which reflect the need for more specialized forms to support the Outside Counsel Program and the remainder of which will support the direct engagement of experts and other legal service providers by the FDIC Legal Division. The 14 proposed new forms would add 1,595 responses, with an estimated response time of 1.0 hour each, for an additional 1,595 hours, thereby increasing the total estimated annual burden to 3,498 hours. The proposed new forms are as follows: Expert Invoice for Fees and Expenses, FDIC Form 5210/01; Legal Support Services (LSS) Provider Invoice for Fees and Expenses, FDIC Form 5210/02; Agreement for Services (Expert or Legal Support Services (LSS) Provider) Amendment, FDIC Form 5210/03; Agreement for Services (Expert or Legal Support Services (LSS) Provider) Amendment (Cont'), FDIC Form 5210/03A; Agreement for Services (Expert/Legal Support Services (LSS) Provider Rate Schedule, FDIC Form 5210/04; Agreement for Services (Expert/Legal Support Services (LSS) Provider Rate Schedule (Cont'), FDIC Form 5210/04A; Legal Services Agreement (LSA) Amendment, FDIC Form 5210/06; Legal Services Agreement Amendment (Continuation Sheet), FDIC Form 5210/06(A); Expert Budget, FDIC Form 5210/08; Outside Counsel Legal Services Agreement Rate Schedule, FDIC Form 5210.10; Outside Counsel Legal Services Agreement (Cont'), FDIC Form 5210/10A; Legal Invoice for Fees and Expenses, FDIC Form 5210/11; Law Firm Travel Voucher, FDIC Form/12; and Law Firm Travel Voucher, FDIC Form 5210/12A.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of this collection. All comments will become a matter of public record.

Dated in Washington, DC this 14th day of November, 2003.
Federal Deposit Insurance Corporation.
Robert E. Feldman,
Executive Secretary.

[FR Doc. 03-28900 Filed 11-18-03; 8:45 am]

BILLING CODE 6714-01-P